DEPARTMENT OF COMMERCE

National Oceanic and Atmospheric Administration

50 CFR Part 648

RIN 0648-BI18

Fisheries of the Northeastern United States; Amendment 20 to the Atlantic Surfclam and Ocean Quahog Fishery Management Plan

AGENCY: National Marine Fisheries Service (NMFS), National Oceanic and Atmospheric Administration (NOAA), Commerce.

ACTION: Notice of availability of proposed fishery management plan amendment; request for comments.

SUMMARY: NMFS announces that the Mid-Atlantic Fishery Management Council has submitted Amendment 20 to the Atlantic Surfclam and Ocean Quahog Fishery Management Plan for review and approval by the Secretary of Commerce. We are requesting comments from the public on the amendment. Amendment 20, also known as the Excessive Shares Amendment, would establish limits to the amount of surfclam or ocean quahog individual transferable quota share or annual allocation in the form of cage tags that an individual or their family members could hold.

DATES: Comments must be received on or before October 11, 2022.

ADDRESSES: You may submit comments on this document, identified by NOAA-NMFS-2020-0112, by any of the following methods:

• Electronic Submission: Submit all electronic public comments via the Federal e-Rulemaking Portal. Go to https://www.regulations.gov and enter NOAA-NMFS-2020-0112 in the Search box. Click the “Comment” icon, complete the required fields, and enter or attach your comments.

• Mail: Submit written comments to Michael Pentony, Regional Administrator, NMFS, Greater Atlantic Regional Fisheries Office, 55 Great Republic Drive, Gloucester, MA 01930. Mark the outside of the envelope: “Comments on Surfclam/Ocean Quahog Excessive Shares Amendment.”

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

Copies of Amendment 20, including the draft Environmental Assessment (EA), are available on request from the Mid-Atlantic Fishery Management Council, 800 North State Street, Suite 201, Dover, DE 19901. These documents are also accessible via the internet at https://www.mafmc.org.

FOR FURTHER INFORMATION CONTACT: Douglas Potts, Fishery Policy Analyst, 978-281-9341.

SUPPLEMENTARY INFORMATION: We are soliciting public comments on Amendment 20, also known as the Excessive Shares Amendment, and its incorporated documents through the end of the comment period stated in this notice of availability. We will soon publish a proposed rule that would implement the amendment's management measures in the Federal Register for public comment, allowing for NMFS's evaluation of the proposed rule under the procedures of the Magnuson-Stevens Fishery Conservation and Management Act. Public comments on the proposed rule must be received by the end of the comment period provided in this notice of availability to be considered in the approval/disapproval decision on the amendment. All comments received by October 11, 2022, whether specifically directed to the amendment or the proposed rule will be considered in the approval/disapproval decision on the amendment. To be considered, comments must be received by close of business on the last day of the comment period. Comments received after that date will not be considered in the decision to approve or disapprove Amendment 20, including those postmarked or otherwise transmitted by the last day of the comment period.

The Mid-Atlantic Fishery Management Council developed this amendment to limit the amount of surfclam or ocean quahog individual transferable quota (ITQ) share or annual allocation in the form of cage tags that an individual or their family members could hold. The Amendment would prohibit an ITQ shareholder, including business owners and their immediate family members, from acquiring ownership of more than 35 percent of the surfclam quota or 40 percent of the ocean quahog quota. A separate, higher cap would be established for the maximum amount of available cage tags that an ITQ permit holder may acquire through leasing or other transactions during the course of an individual fishing year of 65 percent for surfclam tags and 70 percent for ocean quahog tags.

Additional details of the proposed measures are available in the amendment document and the proposed rule.

(Authority: 16 U.S.C. 1801 et seq.)

Dated: August 5, 2022.
Jennifer M. Wallace,
Acting Director, Office of Sustainable Fisheries, National Marine Fisheries Service.

[FR Doc. 2022-17179 Filed 8-9-22; 8:45 am]

BILLING CODE 3510-22-P